DEPARTMENT OF THE INTERIOR

Bureau of Land Management

[ID-957-1420-BJ]

Idaho: Filing of Plats of Survey

AGENCY: Bureau of Land Management, Interior.

ACTION: Notice of filing of plats of surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho, 83709-1657.

SUPPLEMENTARY INFORMATION: The following surveys were executed at the request of the Bureau of Land Management to meet administrative and management purposes: The plat, in 2 sheets, constitutes the entire survey record of the dependent resurvey of portions of the south, east, and west boundaries, and subdivisional lines, and a metes-and-bounds survey of a portion of the Craters of the Moon National Monument in sections 31, 35, and 36, in T. 5 S., R. 25 E., Boise Meridian, Idaho, was accepted February 4, 2004. The plat, in 2 sheets, constitutes the entire survey record of the dependent resurvey of portions of the east boundary, and subdivisional lines, and a metes-and-bounds survey of a portion of the Craters of the Moon National Monument in sections 2, 3, 5, 6, 8, 9, and 10, in T. 6 S., R. 25 E., Boise Meridian, Idaho, was accepted February 5, 2004.

The plat representing the dependent resurvey of a portion of the north boundary and subdivisional lines, and the subdivision of section 5, in T. 10 S., R. 2 E., Boise Meridian, Idaho was accepted February 23, 2004.

The following surveys were executed at the request of the Bureau of Reclamation to meet administrative and management purposes:

The plat presenting the dependent resurvey of portions of the Fifth Auxiliary Guide Meridian East (east boundary), north boundary, and the subdivisional lines and the subdivision of sections 2, 11, 12, 13, and 14, and a metes-and-bounds survey in section 12, in T. 1 N., R. 20 E., Boise Meridian, Idaho, and the plat representing the dependent resurvey of a portion of the subdivisional lines, and the subdivision of sections 34 and 35, in T. 2 N., R. 20 E., Boise Meridian, Idaho, were accepted February 23, 2004.

Dated: April 2, 2004.
Harry K. Smith,
Chief Cadastral Surveyor for Idaho.

[FR Doc. 04-7939 Filed 4-7-04; 8:45 am]

BILLING CODE 4310-GG-P